DEPARTMENT OF HOMELAND SECURITY

Federal Emergency Management Agency

44 CFR Part 67

Docket ID FEMA-2010-0003; Internal Agency Docket No. FEMA-B-1126]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before September 1, 2010.

ADDRESSES: The corresponding preliminary Flood Insurance Rate Map (FIRM) for the proposed BFEs for each community is available for inspection at the community's map repository. The respective addresses are listed in the table below.

You may submit comments, identified by Docket No. FEMA-B-1126, to Kevin C. Long, Acting Chief, Engineering Management Branch, Mitigation Directorate, Federal Emergency Management Agency, 500 C Street SW., Washington, DC 20472, (202) 646-2820, or (e-mail) kevin.long@dhs.gov.

FOR FURTHER INFORMATION CONTACT: Kevin C. Long, Acting Chief, Engineering Management Branch, Mitigation Directorate, Federal Emergency Management Agency, 500 C Street SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | *Elevation in feet(NGVD) + Elevation in feet(NAVD) # Depth in feet above ground ‸ Elevation in meters (MSL): Existing | *Elevation in feet(NGVD) + Elevation in feet(NAVD) # Depth in feet above ground ‸ Elevation in meters (MSL): Modified
City of McGrath, Alaska
Alaska | City of McGrath | Kuskokwim River | Approximately 3.23 miles downstream of the confluence with the Takotna River | None | +338
|  |  | Approximately 1.83 mile upstream of the confluence with the Takotna River | None | +338
* National Geodetic Vertical Datum. | # Depth in feet above ground. | + North American Vertical Datum. | ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street SW., Washington, DC 20472.
ADDRESSES | City of McGrath
Maps are available for inspection at City Hall, Takotna Avenue and F Street, McGrath, AK 99627.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Kenai Peninsula Borough, Alaska
Bear Creek | At the confluence with Salmon Creek | None | +170 | Kenai Peninsula Borough.
| At the outflow from Bear Lake | None | +255
Grouse Creek | At the confluence with Lost Creek | None | +189 | Kenai Peninsula Borough.
| At the outflow from Grouse Lake | None | +220
Kwechack Creek (Including Flows Outside of the Levees) | At the confluence with Salmon Creek | None | +136 | Kenai Peninsula Borough.
| Approximately 1.4 mile upstream of the Brono Road bridge | None | +336
Resurrection River | At the confluence with Resurrection Bay | +17 | +16 | City of Seward, Kenai Peninsula Borough.
| Approximately 1.6 mile upstream of the Alaskan Railroad, near the intersection of Wilma Bypass and Herman Leirer Road | +75 | +74
Salmon Creek | At the confluence with Resurrection Bay | +17 | +16 | City of Seward, Kenai Peninsula Borough.
| At the confluence with Grouse Creek and Lost Creek, just downstream of Timber Lane Drive | None | +189
Salmon Creek Overflow | At the confluence with Salmon Creek | None | +68 | Kenai Peninsula Borough.
| At the divergence from Salmon Creek | None | +148
Salmon Creek Split | At the confluence with Salmon Creek | None | +41 | Kenai Peninsula Borough.
| At the divergence from Salmon Creek | None | +88
Salmon Creek/Resurrection River Split | At the confluence with Resurrection River | None | +38 | Kenai Peninsula Borough.
| At the outflow from Salmon Creek | None | +40
Sawmill Creek | At the confluence with Resurrection Bay | None | +16 | City of Seward, Kenai Peninsula Borough.
| Approximately 1.3 mile upstream of Nash Road | None | +183
Sawmill Creek Split | At the divergence from Sawmill Creek | None | +12 | City of Seward.
| At the confluence with Resurrection Bay | None | +16
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate.
Map located at the community map repository (see below) for exact locations of all BFEs to be changed.
Send comments to Kevin C. Long, Acting Chief, Engineering Management Branch, Mitigation Directorate, Federal Emergency Management Agency, 500 C Street, SW., Washington, DC 20472.
ADDRESSES
City of Seward
Maps are available for inspection at 410 Adams Street, Seward, AK 99664.
Kenai Peninsula Borough
Maps are available for inspection at 144 North Binkley Street, Soldotna, AK 99669.
Duval County, Florida, and Incorporated Areas
Big Davis Creek | Just upstream of I-95 | +5 | +6 | City of Jacksonville.
| Approximately 1.25 mile upstream of Philips Highway | +16 | +17
Big Fishweir Creek | Just upstream of Roosevelt Boulevard | None | +6 | City of Jacksonville.
| Just downstream of Lakeshore Boulevard | None | +21
Big Fishweir Creek Tributary 1 | Just upstream of the railroad | None | +10 | City of Jacksonville.
| Just downstream of Cassat Avenue | None | +19
Bigelow Branch | Just upstream of Talleyrand Avenue | None | +5 | City of Jacksonville.
| Approximately 1,500 feet upstream of Buckman Street | None | +15
Blockhouse Creek | Approximately 6,700 feet upstream of the confluence with the Trout River | None | +5 | City of Jacksonville.
| Just downstream of Armsdale Road | None | +17
Bonett Branch | At the confluence with Pottsburg Creek | +9 | +10 | City of Jacksonville.
| Just downstream of I-95 | None | +19
Box Branch | At the confluence with Pablo Creek | +4 | +7 | City of Jacksonville.
| At the confluence with Box Branch Tributary 1 | +2 | +14
Box Branch Tributary 1 | At the confluence with Box Branch | #2 | +14 | City of Jacksonville.
| Approximately 3,350 feet upstream of the confluence with Box Branch | #2 | +17
Butcher Pen Creek | Just upstream of Wesconnet Road | None | +5 | City of Jacksonville.
| Approximately 600 feet upstream of Randia Road | None | +17
Caldwell Branch | Approximately 1,300 feet upstream of the confluence with Yellow Water Creek | None | +68 | City of Jacksonville.
| Approximately 4,100 feet upstream of the confluence with Caldwell Branch Tributary 2 | None | +79
Caldwell Branch Tributary 1 | At the confluence with Caldwell Branch | None | +74 | City of Jacksonville.
| Approximately 6,700 feet upstream of the confluence with Caldwell Branch | None | +81
Caldwell Branch Tributary 2 | At the confluence with Caldwell Branch | None | +77 | City of Jacksonville.
| Approximately 4,000 feet upstream of the confluence with Caldwell Branch | None | +81
Caney Branch | Approximately 4,000 feet upstream of the confluence with Rushing Branch | +5 | +7 | City of Jacksonville.
| Approximately 2.5 miles upstream of the confluence with Rushing Branch | None | +22
Cedar Creek | Just upstream of I-95 | +5 | +6 | City of Jacksonville.
| Just upstream of Lem Turner Road | #2 | +23
Cedar Creek Tributary 2 | At the confluence with Cedar Creek | None | +13 | City of Jacksonville.
| Just upstream of Terrell Road | None | +16
Cedar Creek Tributary 6 | At the confluence with Cedar Creek | +5 | +8 | City of Jacksonville.
| Just downstream of Biscayne Boulevard | None | +15
Cedar Creek Tributary 7 | At the confluence with Cedar Creek | #2 | +18 | City of Jacksonville.
| Just downstream of Lem Turner Road | #2 | +19
Cedar Creek Tributary 8 | At the confluence with Cedar Creek | #2 | +18 | City of Jacksonville.
| Just downstream of Lem Turner Road | #2 | +18
Cedar River | Approximately 1,500 feet upstream of the confluence with Cedar River Tributary 1 | +5 | +6 | City of Jacksonville.
| Approximately 3,000 feet upstream of the confluence with Cedar River Tributary 16 | None | +42
Cedar River Tributary 1 | At the confluence with the Cedar River | None | +5 | City of Jacksonville.
| Approximately 50 feet upstream of Lakeshore Boulevard | None | +6
Cedar River Tributary 12 | At the confluence with the Cedar River | None | +8 | City of Jacksonville.
| Approximately 150 feet upstream of Lane Avenue | None | +11
Cedar River Tributary 13 | At the confluence with the Cedar River | None | +8 | City of Jacksonville.
| Approximately 100 feet upstream of Normandy Boulevard | None | +29
Cedar River Tributary 14 | At the confluence with the Cedar River | +16 | +14 | City of Jacksonville.
| Approximately 900 feet upstream of the confluence with Cedar River Tributary 18 | None | +17
Cedar River Tributary 15 | At the confluence with Cedar River Tributary 14 | None | +17 | City of Jacksonville.
| Approximately 1,300 feet upstream of the confluence with Cedar River Tributary 14 | None | +18
Cedar River Tributary 16 | At the confluence with the Cedar River | None | +21 | City of Jacksonville.
| Approximately 2,200 feet upstream of the confluence with the Cedar River | None | +22
Cedar River Tributary 17 | At the confluence with the Cedar River | None | +20 | City of Jacksonville.
| Approximately 350 feet upstream of Beaver Street | None | +25
Cedar River Tributary 19 | Approximately 700 feet upstream of the confluence with the Cedar River | +10 | +12 | City of Jacksonville.
| Approximately 250 feet upstream of Grace Terrace | +10 | +12
Cedar Swamp Creek | At the confluence with Pablo Creek | +8 | +9 | City of Jacksonville.
| Approximately 3,400 feet upstream of Huffman Boulevard | None | +37
Cedar Swamp Creek Tributary 1 | At the confluence with Cedar Swamp Creek | None | +29 | City of Jacksonville.
| Just downstream of Beach Boulevard | None | +33
Cedar Swamp Creek Tributary 2 | At the confluence with Cedar Swamp Creek | None | +28 | City of Jacksonville.
| At the confluence with Pablo Creek Tributary 3 | None | +34
Christopher Creek | At the confluence with Christopher Creek Tributary 1 | +4 | +5 | City of Jacksonville.
| Approximately 50 feet upstream of Old Saint Augustine Road | None | +20
Christopher Creek Tributary 1 | At the confluence with Christopher Creek | +4 | +5 | City of Jacksonville.
| Approximately 50 feet upstream of Dupont Avenue | None | +11
Cormorant Branch | Approximately 1,800 feet upstream of Julington Creek Road | +3 | +4 | City of Jacksonville.
| Just upstream of Ricky Drive | None | +17
Craig Creek | Just upstream of Hendricks Avenue | None | +5 | City of Jacksonville.
| Just downstream of I-95 | None | +21
Deep Bottom Creek | Just upstream of Scott Mill Road | None | +5 | City of Jacksonville.
| Just downstream of Hampton Road | None | +19
Deep Bottom Creek Tributary 1 | At the confluence with Deep Bottom Creek | None | +18 | City of Jacksonville.
| Just downstream of Hartley Road | None | +19
Deer Creek | Approximately 900 feet upstream of the Saint Johns River | None | +4 | City of Jacksonville.
| Approximately 4,400 feet upstream of the Saint Johns River | None | +9
Dunn Creek | Approximately 3,600 feet upstream of the confluence with Rushing Branch | +5 | +6 | City of Jacksonville.
| Just upstream of Bernard Road | +21 | +22
Dunn Creek Tributary 1 | At the confluence with Dunn Creek | +5 | +8 | City of Jacksonville.
| Just downstream of Shamrock Avenue | None | +19
Dunn Creek Tributary 2 | At the confluence with Dunn Creek | +12 | +14 | City of Jacksonville.
| Approximately 3,500 feet upstream of Webb Road | None | +22
Durbin Creek | At the confluence with Julington Creek | +3 | +4 | City of Jacksonville.
| At the St. Johns County boundary | +10 | +9
Durbin Creek Tributary 1 | At the confluence with Durbin Creek | None | +7 | City of Jacksonville.
| Just downstream of Philips Highway | None | +19
East Branch | Just upstream of Bessent Road | None | +5 | City of Jacksonville.
| Approximately 100 feet upstream of the confluence with East Branch Tributary 1 | #2 | +14
East Branch Tributary 1 | At the confluence with East Branch | #2 | +14 | City of Jacksonville.
| Approximately 60 feet upstream of Lem Turner Road | None | +14
Fishing Creek | Just upstream of Timiquana Road | +5 | +7 | City of Jacksonville.
| Approximately 1,500 feet upstream of Jammes Road | None | +21
Fishing Creek Tributary 1 | At the confluence with Fishing Creek | None | +8 | City of Jacksonville.
| Approximately 300 feet upstream of 103rd Street | None | +30
Ginhouse Creek | Just upstream of Fort Caroline Road | +5 | +6 | City of Jacksonville.
| Approximately 50 feet downstream of Bradley Road | None | +38
Goodbys Creek | Approximately 2,400 feet upstream of Sanchez Road | +4 | +5 | City of Jacksonville.
| Approximately 800 feet downstream of Praver Drive | +15 | +16
Goodbys Creek Tributary 1 | Approximately 1,000 feet downstream of Sunbeam Road | +8 | +9 | City of Jacksonville.
| Approximately 9,300 feet upstream of the confluence with Goodbys Creek | None | +23
Goodbys Creek Tributary 2 | Just downstream of the end of San Rae Road | +5 | +4 | City of Jacksonville.
| Approximately 1,750 feet upstream of Runnymeade Road | None | +20
Goodbys Creek Tributary 3 | At the confluence with Goodbys Creek | +7 | +9 | City of Jacksonville.
| Approximately 100 feet upstream of Philips Highway | None | +22
Goodbys Creek Tributary 4 | At the confluence with Goodbys Creek Tributary 2 | None | +17 | City of Jacksonville.
| Approximately 3,200 feet upstream of the confluence with Goodbys Creek Tributary 2 | None | +21
Goodbys Creek Tributary 5 | At the confluence with Goodbys Creek | +4 | +5 | City of Jacksonville.
| Approximately 2,000 feet upstream of the confluence with Goodbys Creek | +8 | +5
Greenfield Creek | Approximately 350 feet downstream of Atlantic Boulevard | +7 | +8 | City of Jacksonville.
| Approximately 1,500 feet upstream of Hodges Boulevard | +13 | +17
Gulley Branch | At the confluence with the Trout River | None | +5 | City of Jacksonville.
| Approximately 1,650 feet upstream of Dunn Avenue | None | +18
Half Creek | At the confluence with the Trout River | None | +5 | City of Jacksonville.
| Approximately 400 feet upstream of V.C. Johnson Road | None | +17
Half Creek Tributary 1 | At the confluence with Half Creek | None | +13 | City of Jacksonville.
| Approximately 1,000 feet upstream of V.C. Johnson Road | None | +21
Half Creek Tributary 2 | At the confluence with Half Creek | None | +17 | City of Jacksonville.
| Approximately 580 feet upstream of the confluence with Half Creek | None | +18
Hogan Creek | Just upstream of Bay Street | +4 | +6 | City of Jacksonville.
| Approximately 1,050 feet upstream of 11th Street | None | +21
Hogpen Creek | Just upstream of San Pablo Road | +5 | +6 | City of Jacksonville.
| Approximately 1,050 feet upstream of San Pablo Road | +5 | +6
Hogpen Creek Tributary 1 | At the confluence with Hogpen Creek | None | +6 | City of Jacksonville.
| Approximately 1,350 feet upstream of Canyon Falls Drive | None | +13
Hopkins Creek | At the confluence with Pablo Creek | None | +5 | City of Atlantic Beach, City of Neptune Beach.
| Approximately 1,100 feet upstream of Cutlass Drive | None | +7
Hopkins Creek Tributary 1 | At the confluence with Hopkins Creek Tributary 2 | None | +4 | City of Jacksonville Beach, City of Neptune Beach.
| Approximately 1,700 feet upstream of the confluence with Hopkins Creek | None | +4
Hopkins Creek Tributary 2 | At the confluence with Hopkins Creek | None | +4 | City of Neptune Beach.
| Just downstream of Bay Street | None | +8
Hopkins Creek Tributary 3 | At the confluence with Hopkins Creek Tributary 2 | None | +6 | City of Jacksonville Beach, City of Neptune Beach.
| Just upstream of 15th Avenue | None | +9
Jones Creek | Approximately 800 feet upstream of Monument Road | +9 | +10 | City of Jacksonville.
| At the upstream confluence with Jones Creek Tributary 1 | None | +39
Jones Creek Tributary 1 | At the downstream confluence with Jones Creek | +18 | +23 | City of Jacksonville.
| At the upstream confluence with Jones Creek | None | +39
Jones Creek Tributary 2 | At the confluence with Jones Creek | None | +4 | City of Jacksonville.
| Approximately 150 feet upstream of State Route 9A | None | +44
Julington Creek | Approximately 2,800 feet upstream of Julington Tributary 8 | +3 | +4 | City of Jacksonville.
| Just upstream of Hood Road | None | +23
Julington Creek Tributary 1 | At the confluence with Julington Creek | None | +17 | City of Jacksonville.
| Just downstream of Deer Creek Club Road | None | +28
Julington Creek Tributary 4 | At the confluence with Julington Creek | None | +9 | City of Jacksonville.
| Approximately 50 feet downstream of I-295 | None | +22
Julington Creek Tributary 5 | At the confluence with Julington Creek | None | +7 | City of Jacksonville.
| Approximately 500 feet upstream of Greenland Oaks Drive | None | +16
Julington Creek Tributary 8 | At the confluence with Julington Creek | None | +2 | City of Jacksonville.
| Approximately 850 feet upstream of Julington Creek Road | None | +18
Little Cedar Creek | Approximately 2,800 feet upstream of I-95 | +5 | +6 | City of Jacksonville.
| Just upstream of Owens Road | #2 | +25
Little Cedar Creek Tributary 1 | At the confluence with Little Cedar Creek | None | +9 | City of Jacksonville.
| Approximately 6,650 feet upstream of I-95 | None | +24
Little Cedar Creek Tributary 2 | At the confluence with Little Cedar Creek | None | +5 | City of Jacksonville.
| Approximately 150 feet upstream of I-95 | None | +6
Little Fishweir Creek | Just upstream of St. Johns Avenue | None | +5 | City of Jacksonville.
| Just downstream of Roosevelt Boulevard | None | +17
Little Pottsburg Creek | Just upstream of the Hart Expressway | None | +5 | City of Jacksonville.
| Approximately 600 feet upstream of I-95 | None | +19
Little Pottsburg Creek Tributary 1 | At the confluence with Little Pottsburg Creek | None | +10 | City of Jacksonville.
| Approximately 600 feet upstream of Hickman Road | None | +21
Little Pottsburg Creek Tributary 2 | At the confluence with Little Pottsburg Creek | None | +12 | City of Jacksonville.
| Approximately 50 feet downstream of Spring Glen Road | None | +20
Little Pottsburg Creek Tributary 3 | At the confluence with Little Pottsburg Creek | None | +12 | City of Jacksonville.
| Approximately 1,250 feet upstream of the confluence with Little Pottsburg Creek | None | +14
Little Sixmile Creek | At the confluence with the Ribault River | None | +12 | City of Jacksonville.
| Approximately 2,700 feet upstream of 5th Street | None | +17
Little Sixmile Creek Tributary 1 | At the confluence with Little Sixmile Creek | None | +13 | City of Jacksonville.
| Just upstream of Shawland Road | None | +15
Little Sixmile Creek Tributary 2 | At the confluence with Little Sixmile Creek Tributary 1 | None | +15 | City of Jacksonville.
| Approximately 750 feet upstream of Dahlia Road | None | +18
Little Sixmile Creek Tributary 3 | At the confluence with Sixmile Creek | None | +13 | City of Jacksonville.
| Just downstream of Lucoma Drive | None | +13
Little Trout River | At the confluence with the Trout River | None | +4 | City of Jacksonville.
| Approximately 1,000 feet upstream of the confluence with Little Trout River Tributary 4 | None | +15
Little Trout River Tributary 4 | At the confluence with the Little Trout River | None | +15 | City of Jacksonville.
| Approximately 1,200 feet upstream of the confluence with the Little Trout River | None | +15
Little Trout River Tributary 6 | At the confluence with the Little Trout River | None | +9 | City of Jacksonville.
| Approximately 600 feet downstream of Plummer Road | None | +13
Little Trout River Tributary 10 | At the confluence with the Little Trout River | None | +4 | City of Jacksonville.
| Approximately 2,600 feet upstream of the confluence with the Little Trout River | None | +9
Long Branch | Just upstream of Buffalo Avenue | None | +5 | City of Jacksonville.
| Approximately 400 feet upstream of Liberty Street | None | +12
Long Branch Tributary 1 | Approximately 400 feet upstream of Liberty Street | None | +12 | City of Jacksonville.
| Approximately 1,100 feet upstream of Liberty Street | None | +14
Magnolia Gardens Creek | At the confluence with the Ribault River | None | +2 | City of Jacksonville.
| Approximately 300 feet upstream of Cleveland Road | None | +19
McCoy Creek | At the end of Oak Street | +6 | +7 | City of Jacksonville.
| Just upstream of Commonwealth Avenue | +19 | +20
McCoy Creek North Branch | At the confluence with McCoy Creek | +16 | +17 | City of Jacksonville.
| Just upstream of 3rd Street | None | +20
McCoy Creek Southwest Branch | At the confluence with McCoy Creek | +10 | +12 | City of Jacksonville.
| Just upstream of College Street | None | +17
McCoy Creek Tributary 5 | Just upstream of Roselle Road at the confluence with McCoy Creek Southwest Branch | None | +14 | City of Jacksonville.
| Approximately 50 feet upstream of Gilmore Street | None | +15
McGirts Creek | At the confluence with the Ortega River | +59 | +58 | City of Jacksonville.
| Approximately 1,000 feet upstream of Halsems Road | None | +75
McGirts Creek Tributary 11 | At the confluence with McGirts Creek | None | +60 | City of Jacksonville.
| Approximately 1.3 mile upstream of the confluence with McGirts Creek | #2 | +74
McGirts Creek Tributary 12 | At the confluence with McGirts Creek | None | +63 | City of Jacksonville.
| Approximately 1,200 feet upstream of William Avenue | #2 | +80
McGirts Creek Tributary 14 | At the confluence with McGirts Creek | None | +59 | City of Jacksonville.
| Approximately 1,750 feet upstream of Joes Road | None | +79
Mill Dam Branch | At the confluence with Pablo Creek | +18 | +21 | City of Jacksonville.
| 3,750 feet upstream of Leaby Road | #2 | +43
Mill Dam Branch Canal | At the confluence with Mill Dam Branch | None | +27 | City of Jacksonville.
| Approximately 100 feet upstream of Gate Parkway | None | +34
Mill Dam Branch | At the confluence with Mill Dam | None | +38 | City of Jacksonville.
| Approximately 100 feet upstream of Beach Boulevard | #2 | +38
Mill Dam Branch | At the confluence with Mill Dam | None | +38 | City of Jacksonville.
| Approximately 50 feet upstream of Anniston Road | None | +41
Mill Dam Branch Tributary 5 | At the confluence with Mill Dam Branch at Lantana Lakes Drive | None | +41 | City of Jacksonville.
| Just upstream of Forest Boulevard | None | +45
Miller Creek | At the confluence with the Saint Johns River | None | +6 | City of Jacksonville.
| Approximately 400 feet upstream of Camden Avenue | None | +18
Miller Creek Tributary 1 | At the confluence with Miller Creek | None | +16 | City of Jacksonville.
| Just downstream of Stillman Street | None | +16
Miramar Tributary | At the confluence with the Saint Johns River | None | +5 | City of Jacksonville.
| Approximately 1,200 feet upstream of Orlando Circle West | None | +13
Moncrief Creek | At the confluence with the Trout River | None | +2 | City of Jacksonville.
| Approximately 250 feet upstream of 9th Street | None | +21
Moncrief Creek Tributary 4 | At the confluence with Moncrief Creek | None | +17 | City of Jacksonville.
| Approximately 250 feet upstream of Spring Grove Avenue | None | +19
Mount Pleasant Creek | Approximately 3,400 feet upstream of Ashley Melisse Boulevard | +6 | +7 | City of Jacksonville.
| Just downstream of General Doolittle Drive | None | +36
Mount Pleasant Creek Tributary 3 | At the confluence with Tiger Pond Creek | None | +6 | City of Jacksonville.
| Approximately 2,050 feet upstream of Ashley Melisse Boulevard | None | +26
Mount Pleasant Creek Tributary 4 | Approximately 1,150 feet upstream of Blue Eagle Way | None | +23 | City of Jacksonville.
| At the confluence with Mount Pleasant Creek | None | +26
Mount Pleasant Creek Tributary 6 | At the confluence with Mount Pleasant Creek | None | +27 | City of Jacksonville.
| Just downstream of Running River Road | None | +35
New Rose Creek | At the confluence with the Saint Johns River | None | +7 | City of Jacksonville.
| Just upstream of Saint Augustine Road | None | +21
New Rose Creek Tributary 1 | At the confluence with New Rose Creek | None | +6 | City of Jacksonville.
| Approximately 100 feet upstream of Grant Road | None | +22
Newcastle Creek | At the confluence with the Saint Johns River | None | +7 | City of Jacksonville.
| Approximately 200 feet downstream of Greenfern Lane | None | +27
Newcastle Creek Tributary 1 | At the confluence with Newcastle Creek | None | +14 | City of Jacksonville.
| Approximately 700 feet upstream of the confluence with Newcastle Creek | None | +18
Ninemile Creek | At the confluence with the Trout River | None | +5 | City of Jacksonville.
| Approximately 1,250 feet upstream of Smalley Road | None | +22
Ninemile Creek Tributary 1 | At the confluence with Ninemile Creek | None | +10 | City of Jacksonville.
| Approximately 1,600 feet upstream of Old Kings Road | None | +14
Ninemile Creek Tributary 2 | At the confluence with Ninemile Creek | None | +20 | City of Jacksonville.
| Approximately 1,500 feet upstream of the railroad | None | +21
Ninemile Creek Tributary 6 | At the confluence with Ninemile Creek | None | +9 | City of Jacksonville.
| Approximately 2,100 feet upstream of Old Kings Road | None | +22
North Fork Sixmile Creek | At the confluence with Sixmile Creek | +19 | +20 | City of Jacksonville.
| Approximately 3,300 feet upstream of Fish Road west | None | +75
North Fork Sixmile Creek Tributary 1 | At the confluence with North Fork Sixmile Creek | None | +21 | City of Jacksonville.
| Approximately 3,600 feet upstream of Bulls Bay Highway | None | +23
Oldfield Creek | Approximately 400 feet upstream of the confluence with Oldfield Tributary 4 | +6 | +5 | City of Jacksonville.
| At the confluence with Oldfield Creek Tributary 7 | None | +26
Oldfield Creek Tributary 1 | Approximately 1,000 feet downstream of Old Saint Augustine Road | +12 | +11 | City of Jacksonville.
| Approximately 100 feet downstream of I-295 | None | +22
Oldfield Creek Tributary 2 | At the confluence with Oldfield Creek | None | +16 | City of Jacksonville.
| Approximately 50 feet upstream of Old Saint Augustine Road | None | +19
Oldfield Creek Tributary 3 | At the confluence with Oldfield Creek | None | +23 | City of Jacksonville.
| Approximately 2,250 feet upstream of the confluence with Oldfield Creek | None | +25
Oldfield Creek Tributary 4 | At the confluence with Oldfield Creek | None | +5 | City of Jacksonville.
| Approximately 25 feet upstream of Hood Landing Road | None | +25
Oldfield Creek Tributary 7 | Approximately 450 feet upstream of Knottingby Drive | None | +26 | City of Jacksonville.
| At the confluence with Oldfield Creek | None | +26
Open Creek | Approximately 2,000 feet upstream of the confluence with Open Creek Tributary 1 | +9 | +8 | City of Jacksonville.
| Approximately 1,900 feet upstream of Open Creek Tributary 4 | +24 | +23
Open Creek Tributary 1 | Approximately 2,200 feet upstream of Crosswater Boulevard | +9 | +10 | City of Jacksonville.
| Approximately 4,700 feet upstream of Crosswater Boulevard | None | +19
Open Creek Tributary 2 | At the confluence with Open Creek | +11 | +13 | City of Jacksonville.
| Approximately 200 feet upstream of Wm. Davis Parkway | None | +22
Open Creek Tributary 3 | At the confluence with Open Creek | None | +4 | City of Jacksonville.
| Approximately 1,450 feet upstream of San Pablo Parkway | None | +14
Open Creek Tributary 4 | At the confluence with Open Creek | None | +23 | City of Jacksonville.
| Approximately 1,300 feet upstream of Highland Glen Way | None | +30
Ortega River | Approximately 2,000 feet downstream of Collins Road | +5 | +4 | City of Jacksonville.
| Approximately 5,400 feet upstream of Normandy Boulevard at the confluence with McGirts Creek | +59 | +58
Ortega River Tributary 1 | At the confluence with the Ortega River | None | +4 | City of Jacksonville.
| Just downstream of Jubal Lane | None | +20
Ortega River Tributary 2 | At the confluence with the Ortega River | None | +39 | City of Jacksonville.
| Approximately 900 feet upstream of Old Middleburg Road | None | +68
Ortega River Tributary 3 | At the confluence with the Ortega River | None | +34 | City of Jacksonville.
| Approximately 250 feet upstream of Steamboat Springs Drive | None | +85
Ortega River Tributary 4 | At the confluence with the Ortega River | None | +28 | City of Jacksonville.
| Just downstream of Connie Jean Road | None | +71
Ortega River Tributary 5 | At the confluence with the Ortega River | None | +20 | City of Jacksonville.
| Just downstream of I-295 | None | +25
Ortega River Tributary 6 | Approximately 1,600 feet upstream of Argyle Forest Boulevard | None | +8 | City of Jacksonville.
| Just downstream of I-295 | None | +21
Ortega River Tributary 7 | Approximately 600 feet upstream of Argyle Forest Boulevard | None | +8 | City of Jacksonville.
| Just upstream of I-295 | None | +18
Ortega River Tributary 10 | At the confluence with the Ortega River | None | +22 | City of Jacksonville.
| Approximately 1,000 feet upstream of Brett Forest Drive | None | +67
Ortega River Tributary 11 | At the confluence with the Ortega River | None | +20 | City of Jacksonville.
| Approximately 20 feet downstream of Collins Road | None | +40
Pablo Creek | Approximately 2,500 feet upstream of the Duval County line | +4 | +5 | City of Jacksonville.
| At the confluence with Sawmill Slough/Buckhead Branch | +19 | +22
Pablo Creek Tributary 1 | At the confluence with Pablo Creek | None | +11 | City of Jacksonville.
| Approximately 50 feet downstream of J. Turner Butler Boulevard | None | +35
Pablo Creek Tributary 2 | At the confluence with Pablo Creek | None | +12 | City of Jacksonville.
| Approximately 6,300 feet upstream of Kernan Boulevard | #2 | +36
Pablo Creek Tributary 3 | At the confluence with Pablo Creek Tributary 2 | None | +22 | City of Jacksonville.
| Approximately 6,000 feet upstream of the confluence with Cedar Swamp Creek Tributary 2 | None | +34
Pickett Branch | At the confluence with Cedar Creek | None | +9 | City of Jacksonville.
| Just downstream of Yankee Clipper Drive | None | +21
Pickett Branch Tributary 3 | At the confluence with Pickett Branch | None | +19 | City of Jacksonville.
| Just upstream of Pecan Park Road | None | +21
Pickett Branch Tributary 4 | At the confluence with Pickett Branch | None | +20 | City of Jacksonville.
| Just downstream of Pecan Park Road | None | +20
Pickett Branch Tributary 5 | At the confluence with Pickett Branch | None | +21 | City of Jacksonville.
| Just upstream of Pecan Park Road | None | +21
Pottsburg Creek | Approximately 1 mile downstream of Beach Boulevard | +4 | +5 | City of Jacksonville.
| Just upstream of Baymeadows Road | +18 | +17
Pottsburg Creek Tributary 5 | At the confluence with Pottsburg Creek | None | +9 | City of Jacksonville.
| Approximately 300 feet upstream of Spring Park Road | None | +20
Puckett Creek | Approximately 100 feet upstream of State Route A1A | None | +6 | City of Atlantic Beach, City of Jacksonville.
| Approximately 1,050 feet upstream of Fairway Villas Drive | None | +7
Red Bay Branch | Approximately 700 feet downstream of Arlington Expressway | +5 | +8 | City of Jacksonville.
| Approximately 4,100 feet upstream of Lone Star Road | None | +22
Red Bay Branch Tributary 1 | At the confluence with Red Bay Branch | None | +9 | City of Jacksonville.
| Just downstream of Lone Star Road | None | +13
Ribault River | Approximately 3,000 feet downstream of Howell Drive | +6 | +5 | City of Jacksonville.
| At the confluence with Sixmile Creek | +8 | +12
Ribault River Tributary 2 | At the confluence with Ribault Creek | None | +11 | City of Jacksonville.
| Approximately 70 feet downstream of Edgewood Drive | None | +11
Ribault River Tributary 5 | At the confluence with Ribault Creek | None | +11 | City of Jacksonville.
| Approximately 2,200 feet upstream of the confluence with Ribault Creek | None | +11
Ribault River Tributary 8 | At the confluence with Ribault Creek | None | +9 | City of Jacksonville.
| Approximately 1,600 feet upstream of Clyde Drive | None | +11
Ribault River Tributary 9 | At the confluence with Ribault Creek | None | +11 | City of Jacksonville.
| Approximately 300 feet upstream of West Virginia Avenue | None | +11
Rowell Creek | At the confluence with Sal Taylor Creek | None | +52 | City of Jacksonville.
| Approximately 650 feet upstream of Secluded Avenue | None | +80
Rowell Creek Tributary 2 | At the confluence with Rowell Creek | None | +78 | City of Jacksonville.
| Approximately 3,700 feet upstream of New World Avenue | None | +82
Rushing Branch | Approximately 1,800 feet upstream of Yellow Bluff Road | +5 | +6 | City of Jacksonville
| Just upstream of Cedar Point Road | None | +19
Rushing Branch Tributary 1 | At the confluence with Rushing Branch | None | +9 | City of Jacksonville.
| Just upstream of New Berlin Road | None | +13
Sal Taylor Creek | Approximately 3,700 feet upstream of the confluence with Yellow Water Creek | None | +50 | City of Jacksonville.
| At the confluence with Rowell Creek Tributary 1 approximately 2,800 feet east of Aviation Avenue | None | +76
Sal Taylor Creek Tributary 2 | At the confluence with Sal Taylor Creek | None | +61 | City of Jacksonville.
| Approximately 1,500 feet upstream of the confluence with Sal Taylor Creek Tributary 3 | #2 | +67
Sal Taylor Creek Tributary 3 | At the confluence with Sal Taylor Creek Tributary 2 | #2 | +66 | City of Jacksonville.
| Approximately 3,400 feet upstream of the confluence with Sal Taylor Creek Tributary 2 | None | +70
Sal Taylor Creek Tributary 4 | At the confluence with Sal Taylor Creek | None | +69 | City of Jacksonville.
| Approximately 800 feet upstream of 103rd Street | None | +80
Sandalwood Canal | Approximately 1,100 feet upstream of San Pablo Road | +8 | +6 | City of Jacksonville.
| Approximately 2 miles upstream of Kernan Boulevard | None | +35
Sawmill Slough/Buckhead Branch | At the confluence with Pablo Creek | +21 | +23 | City of Jacksonville.
| Approximately 2,300 feet upstream of J. Turner Butler Boulevard | +30 | +29
Sawmill Slough/Buckhead Branch Tributary 1 | At the confluence with Sawmill Slough/Buckhead Branch | +21 | +25 | City of Jacksonville.
| Approximately 1,200 feet upstream of J. Turner Butler Boulevard | +28 | +27
Sawmill Slough/Buckhead Branch Tributary 2 | At the confluence with Sawmill Slough/Buckhead Branch | None | +34 | City of Jacksonville.
| Approximately 550 feet upstream of the confluence with Sawmill Slough/Buckhead Branch | None | +34
Seaton Creek | At the confluence with Thomas Creek | None | +9 | City of Jacksonville.
| At the confluence with Seaton Creek Tributary 2 | None | +13
Seaton Creek Tributary 1 | At the confluence with Seaton Creek | None | +9 | City of Jacksonville.
| Approximately 2 miles upstream of Arnold Road | #2 | +17
Seaton Creek Tributary 2 | At the confluence with Seaton Creek | None | +13 | City of Jacksonville.
| Just upstream of Arnold Road | None | +18
Second Puncheon Branch | At the confluence with Pablo Creek | +18 | +21 | City of Jacksonville.
| Just downstream of Beach Boulevard | None | +44
Second Puncheon Branch Tributary 1 | At the confluence with Second Puncheon Branch | None | +27 | City of Jacksonville.
| Approximately 100 feet downstream of Point Meadows Drive | None | +34
Second Puncheon Branch Tributary 3 | At the confluence with Second Puncheon Branch | None | +31 | City of Jacksonville.
| Just downstream of Courtyards Lane | None | +40
Second Puncheon Branch Tributary 4 | At the confluence with Second Puncheon Branch | None | +32 | City of Jacksonville.
| Approximately 2,000 feet upstream of the confluence with Second Puncheon Branch | None | +39
Second Puncheon Branch Tributary 5 | At the confluence with Second Puncheon Branch | None | +42 | City of Jacksonville.
| Just upstream of Gate Parkway | None | +45
Second Puncheon Branch Tributary 6 | At the confluence with Second Puncheon Branch | None | +43 | City of Jacksonville.
| Approximately 1,400 feet upstream of the confluence with Second Puncheon Branch | None | +50
Sherman Creek | Just downstream of Pioneer Drive | +7 | +6 | City of Atlantic Beach, City of Jacksonville.
| Approximately 100 feet upstream of Seminole Road | None | +7
Sherman Creek Canal | At the confluence with Sherman Creek | +8 | +6 | City of Atlantic Beach, City of Jacksonville.
| Just downstream of Fleet Landing Boulevard | +8 | +7
Silversmith Creek | At the confluence with Pottsburg Creek | None | +4 | City of Jacksonville.
| Approximately 2,250 feet upstream of Silversmith Tributary 1 | None | +20
Silversmith Creek Tributary 1 | At the confluence with Silversmith Creek | None | +13 | City of Jacksonville.
| Approximately 50 feet upstream of Century 21 Drive | None | +24
Sixmile Creek | At the confluence with the Ribault River | +9 | +12 | City of Jacksonville.
| Approximately 3,100 feet upstream of Commonwealth Avenue | None | +68
Sixmile Creek Tributary 6 | At the confluence with Sixmile Creek | None | +34 | City of Jacksonville.
| Approximately 3,000 feet upstream of railroad | None | +56
Sixmile Creek Tributary 9 | At the confluence with Sixmile Creek | None | +17 | City of Jacksonville.
| Just downstream of Pritchard Road | None | +17
St. Mary's River Tributary | Just upstream of Beaver Street | None | +81 | City of Jacksonville.
| Approximately 3,700 feet upstream of I-10 | None | +82
Strawberry Creek | Approximately 2,400 feet upstream of the confluence with Pottsburg Creek | +4 | +5 | City of Jacksonville.
| Approximately 50 feet downstream of Merril Road | +36 | +35
Sweetwater Creek | At the confluence with Julington Creek | +6 | +9 | City of Jacksonville.
| Approximately 2,300 feet upstream of Vineyard Lake Road North | #2 | +29
Tacito Creek | Approximately 2,000 feet upstream of Scott Mill Road | None | +5 | City of Jacksonville.
| Approximately 3,300 feet upstream of Scott Mill Road | None | +8
Tiger Hole Swamp | At the confluence with Pottsburg Creek | +13 | +14 | City of Jacksonville.
| Approximately 1,650 feet upstream of J. Turner Butler Boulevard | None | +23
Tiger Pond Creek | At the confluence with Mt. Pleasant Creek | +6 | +3 | City of Jacksonville.
| Approximately 1,600 feet upstream of McCormick Road | None | +28
Tiger Pond Creek Tributary 1 | At the confluence with Tiger Pond Creek | None | +14 | City of Jacksonville.
| Approximately 300 feet upstream of Kernan Forest Boulevard | None | +20
Tributary 1 to Miramar Tributary | At the confluence with Miramar Tributary | None | +8 | City of Jacksonville.
| Approximately 1,000 feet upstream of Greenridge Road | None | +11
Tributary to Little Sixmile Creek Tributary 1 | At the confluence with Little Sixmile Creek Tributary 1 | None | +15 | City of Jacksonville.
| Just downstream of Edgewood Avenue | None | +19
Tributary to Ortega River Tributary 1 | At the confluence with Ortega River Tributary 1 | None | +4 | City of Jacksonville.
| Just downstream of Ovella Road | None | +10
Trout River | Approximately 2,000 feet upstream of New Kings Road | +5 | +6 | City of Jacksonville.
| Just downstream of Cisco Gardens Road | None | +61
Trout River Tributary 2 | At the confluence with the Trout River | None | +21 | City of Jacksonville.
| Approximately 1,200 feet upstream of Jones Road | None | +52
Trout River Tributary 3 | At the confluence with the Trout River | None | +13 | City of Jacksonville.
| Approximately 100 feet upstream of the Norfolk Southern Railway | None | +19
Trout River Tributary 7 | At the confluence with Trout River Tributary 2 | #2 | +32 | City of Jacksonville.
| Just downstream of Jones Road | None | +49
Trout River Tributary 8 | At the confluence with the Trout River and Trout River Tributary 9 | None | +39 | City of Jacksonville.
| Approximately 1,600 feet upstream of Pines Plantation Road | None | +55
West Branch | Just downstream of Bessent Road | None | +5 | City of Jacksonville.
| Approximately 1,200 feet upstream of Dunn Avenue | None | +12
West Branch Tributary 1 | At the confluence with West Branch | None | +9 | City of Jacksonville.
| Approximately 500 feet upstream of North Campus Boulevard | None | +18
West Branch Tributary 2 | At the confluence with West Branch | None | +11 | City of Jacksonville.
| Approximately 50 feet upstream of Dunn Avenue | None | +11
Williamson Creek | At the confluence with the Cedar River | None | +5 | City of Jacksonville.
| Just downstream of Wilson Boulevard | None | +25
Williamson Creek Tributary 3 | At the confluence with Williamson Creek | None | +9 | City of Jacksonville.
| Just downstream of Wilson Boulevard | None | +25
Williamson Creek Tributary 4 | At the confluence with Williamson Creek | None | +9 | City of Jacksonville.
| Approximately 50 feet downstream of Lucente Road | None | +23
Wills Branch | At the confluence with the Cedar River | +5 | +7 | City of Jacksonville.
| Approximately 400 feet upstream of Ramona Boulevard | None | +62
Wills Branch Tributary 1 | At the confluence with Wills Branch | None | +9 | City of Jacksonville.
| Just downstream of Frank H. Peterson Academy Road | None | +64
Wills Branch Tributary 2 | At the confluence with Wills Branch Tributary 1 | None | +34 | City of Jacksonville.
| Approximately 1,400 feet upstream of Fouraker Road | None | +47
Wills Branch Tributary 3 | At the confluence with Wills Branch | None | +23 | City of Jacksonville.
| Just downstream of I-10 | None | +82
Wills Branch Tributary 4 | At the confluence with Wills Branch Tributary 3 | None | +50 | City of Jacksonville.
| Approximately 1,600 feet upstream of Herlong Road | None | +77
Wills Branch Tributary 5 | At the confluence with Wills Branch Tributary 1 | None | +10 | City of Jacksonville.
| Approximately 50 feet downstream of Dayton Road | None | +25
Wills Branch Tributary 6 | At the confluence with Wills Branch Tributary 1 | None | +17 | City of Jacksonville.
| Approximately 50 feet upstream of Spring Branch Drive | None | +50
Yellow Water Creek Tributary 1 | Just upstream of Bicentennial Drive | None | +62 | City of Jacksonville.
| Approximately 5,200 feet upstream of Bicentennial Drive | None | +78
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Atlantic Beach
Maps are available for inspection at the City Building, 800 Seminole Road, Atlantic Beach, FL 32233.
City of Jacksonville
Maps are available for inspection at City Hall, 117 West Duval Street, Jacksonville, FL 32202.
City of Jacksonville Beach
Maps are available for inspection at City Hall, 11 North 3rd Street, Jacksonville Beach, FL 32250.
City of Neptune Beach
Maps are available for inspection at City Hall, 116 1st Street, Neptune Beach, FL 32266.
Macon County, Illinois, and Incorporated Areas
Friends Creek | Approximately 130 feet upstream of IL-48 | None | +645 | Village of Argenta.
| Approximately 1,440 feet upstream of IL-48 | None | +646
Long Creek | At Baltimore Avenue | +621 | +619 | City of Decatur.
| At IL-121 | +624 | +627
Long Creek Tributary | At the confluence with Long Creek | +622 | +619 | City of Decatur.
| Approximately 600 feet upstream of Lost Bridge Road | +623 | +620
Sand Creek | At South Shores Drive (County Highway 31) | None | +619 | Unincorporated Areas of Macon County.
| Approximately 20 feet upstream of the railroad tracks | None | +619
Sangamon River | Approximately 1.1 mile downstream of the confluence with Steven Creek | +604 | +602 | City of Decatur, Unincorporated Areas of Macon County.
| Approximately 1,400 feet upstream of Nesbit Bridge | +620 | +625
South Spring Creek | At the confluence with the Sangamon River | None | +608 | City of Decatur.
| Approximately 1,100 feet downstream of Heritage Road | None | +649
Spring Creek | Approximately 200 feet upstream of the confluence with Stevens Creek | +621 | +620 | Unincorporated Areas of Macon County.
| Approximately 0.6 mile upstream of Spring Creek Tributary | +658 | +659
Spring Creek Tributary | At the confluence with Spring Creek | +656 | +657 | Unincorporated Areas of Macon County.
| At the downstream side of Mound Road | +660 | +659
Stevens Creek | Approximately 400 feet upstream of the confluence with the Sangamon River | +604 | +603 | Unincorporated Areas of Macon County, Village of Forsyth.
| Approximately 150 feet upstream of I-72 | +644 | +645
Stevens Creek Tributary A | At the confluence with Stevens Creek | +620 | +619 | Unincorporated Areas of Macon County.
| Approximately 1,230 feet upstream of Trump Hill Lane | +620 | +619
Stevens Creek Tributary B | At the confluence with Stevens Creek | +631 | +629 | Unincorporated Areas of Macon County
| Approximately 985 feet upstream of the confluence with Stevens Creek | +631 | +630
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate.
Map located at the community map repository (see below) for exact locations of all BFEs to be changed.
Send comments to Kevin C. Long, Acting Chief, Engineering Management Branch, Mitigation Directorate, Federal Emergency Management Agency, 500 C Street, SW., Washington, DC 20472.
ADDRESSES
City of Decatur
Maps are available for inspection at City Hall, 1 Gary K. Anderson Plaza, Decatur, IL 62523.
Unincorporated Areas of Macon County
Maps are available for inspection at the Macon County Courthouse, 141 South Main Street, Decatur, IL 62523.
Village of Argenta
Maps are available for inspection at the Village Hall, 330 North Warren, Argenta, IL 62501.
Village of Forsyth
Maps are available for inspection at the Village Hall, 301 South Route 51, Forsyth, IL 62535.
Ste. Genevieve County, Missouri, and Incorporated Areas
Mississippi River | At the easternmost portion of the county near the confluence with the Kaskaskia River | +394 | +392 | City of Ste. Genevieve, Unincorporated Areas of Ste. Genevieve County.
| Approximately 2 miles upstream of the confluence with Isle du Bois Creek | +405 | +404
Old Mississippi River Channel | Approximately 0.66 mile downstream of the confluence with Walnut Creek | +393 | +391 | City of St. Mary, Unincorporated Areas of Ste. Genevieve County.
| Approximately 2.75 miles upstream of the confluence with Walnut Creek | +394 | +392
St. Laurent Branch | At the confluence with St. Laurent Creek | +393 | +391 | City of St. Mary, Unincorporated Areas of Ste. Genevieve County.
| Just upstream of Mulberry Street | +393 | +391
St. Laurent Creek | At the confluence with Old Mississippi River Channel | +393 | +391 | City of St. Mary, Unincorporated Areas of Ste. Genevieve County.
| At the confluence with St. Laurent Branch | +393 | +391
Walnut Creek | At the confluence with Old Mississippi River Channel | +393 | +392 | City of St. Mary.
| Approximately 1,940 feet upstream of Old Mississippi River Channel | +393 | +392
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate.
Map located at the community map repository (see below) for exact locations of all BFEs to be changed.
Send comments to Kevin C. Long, Acting Chief, Engineering Management Branch, Mitigation Directorate, Federal Emergency Management Agency, 500 C Street, SW., Washington, DC 20472.
ADDRESSES
City of St. Mary
Maps are available for inspection at 782 3rd Street, St. Mary, MO 63673.
City of Ste. Genevieve
Maps are available for inspection at 165 South 4th Street, Ste. Genevieve, MO 63670.
Unincorporated Areas of Ste. Genevieve County
Maps are available for inspection at 165 South 4th Street, Ste. Genevieve, MO 63670.
McHenry County, North Dakota, and Incorporated Areas
Mouse River | Approximately 1.25 mile upstream of U.S. Route 2 | +1461 | +1462 | Unincorporated Areas of McHenry County.
| Approximately 3.26 miles upstream of U.S. Route 2 | +1462 | +1462
*National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate.
Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of McHenry County
Maps are available for inspection at 407 Main Street, South, Towner, ND 58788
Cameron County, Pennsylvania (All Jurisdictions)
Bennett Branch Sinnemahoning Creek | Approximately 0.60 mile downstream of Sterling Run Road | None | +809 | Township of Gibson.
| Approximately 0.55 mile downstream of Sterling Run Road | None | +814
Driftwood Branch Sinnemahoning Creek | Approximately 1,835 feet downstream of Castle Garden Road | None | +905 | Township of Gibson.
| Approximately 980 feet downstream of Castle Garden Road | None | +905
Driftwood Branch Sinnemahoning Creek | Approximately 1.28 mile downstream of the confluence with Sinnemahoning Portage Creek | None | +1000 | Township of Portage.
| Approximately 1.18 mile downstream of the confluence with Sinnemahoning Portage Creek | None | +1001
Sinnemahoning Creek | Approximately 980 feet downstream of Castle Garden Road | None | +809 | Township of Gibson.
| Approximately 90 feet upstream of the confluence with Boyer Run | None | +809
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate.
Map located at the community map repository (see below) for exact locations of all BFEs to be changed.
Send comments to Kevin C. Long, Acting Chief, Engineering Management Branch, Mitigation Directorate, Federal Emergency Management Agency, 500 C Street, SW., Washington, DC 20472.
ADDRESSES
Township of Gibson
Maps are available for inspection at the Gibson Township Municipal Building, 7657 Bridge Street, Driftwood, PA 15834.
Township of Portage
Maps are available for inspection at the Portage Township Municipal Building, 523 Sizer Run, Emporium, PA 15832.
Lancaster County, South Carolina, and Incorporated Areas
Cane Creek | Approximately 0.7 mile downstream of Grace Avenue | +434 | +430 | Unincorporated Areas of Lancaster County.
| Approximately 1.0 mile downstream of Old Lansford Road | +434 | +433
Catawba River | Approximately 2.3 miles upstream of Waxahaw Creek | None | +465 | Unincorporated Areas of Lancaster County.
| Approximately 0.5 mile downstream of the confluence with Catawba River Tributary 1 | None | +481
| Approximately 0.6 mile upstream of the confluence with Catawba River Tributary 11 | None | +484
| Approximately 1 mile upstream of the confluence with Catawba River Tributary 11 | None | +486
Sugar Creek | At the confluence with the Catawba River | +488 | +486 | Unincorporated Areas of Lancaster County.
| Approximately 1.2 mile upstream of McAlpine Creek | +535 | +537
Wateree Lake (Catawba River) | At the Lancaster/Fairfield/Kershaw county boundary | None | +240 | Unincorporated Areas of Lancaster County.
| Approximately 3.3 miles upstream of the Lancaster/Fairfield/Kershaw county boundary | None | +244
* National Geodetic Vertical Datum.
>+ North American Vertical Datum.
# Depth in feet above ground.
‸ Mean Sea Level, rounded to the nearest 0.1 meter.
** BFEs to be changed include the listed downstream and upstream BFEs, and include BFEs located on the stream reach between the referenced locations above. Please refer to the revised Flood Insurance Rate.
Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Lancaster County
Maps are available for inspection at the Building and Zoning Department, 101 North Main Street, Lancaster, SC 29720.

(Catalog of Federal Domestic Assistance No. 97.022, “Flood Insurance.”)

Dated: May 19, 2010.
Edward L. Connor,
Acting Federal Insurance and Mitigation Administrator, Federal Insurance and Mitigation Administration, Department of Homeland Security, Federal Emergency Management Agency.

[FR Doc. 2010-13265 Filed 6-2-10; 8:45 am]

BILLING CODE 9110-12-P